DEPARTMENT OF AGRICULTURE

Natural Resources Conservation Service

[Docket No. NRCS-2015-0005]

Notice of Availability of the Record of Decision (ROD) in Cooperation With the Bureau of Land Management for the Green River Diversion Rehabilitation Project, Green River, Utah

AGENCY: Natural Resources Conservation Service (NRCS), USDA.

ACTION: Notice.

SUMMARY: This notice announces the availability of the ROD for the Green River Diversion Rehabilitation Project, Green River, Utah, by the Utah office of NRCS. NRCS will use Emergency Watershed Protection (EWP) Program funds for the Green River Diversion Rehabilitation project in Emery and Grand counties, Utah as detailed in the ROD. The NRCS Utah State Conservationist, David Brown, signed the ROD on April 2, 2015, which constitutes the NRCS's final decision.

ADDRESSES: The complete text of the ROD and the final EIS can be viewed and downloaded from the project Web site at http://www.nrcs.usda.gov/wps/port+al/nrcs/detail/ut/programs/planning/ewpp/?cid=nrcs141p2_034037, or through http://www.regulations.gov by accessing Docket No. NRCS-2015-0005. Complete copies of the ROD are available upon request from the NRCS Utah State Office at 125 South State Street, Room 4010 in Salt Lake City, UT 84138.

FOR FURTHER INFORMATION CONTACT: David Brown, NRCS State Conservationist, 801-524-4555. Email: David.Brown@ut.usda.gov.

SUPPLEMENTARY INFORMATION: The NRCS, as the lead Federal Agency, is working with the Utah Department of Agriculture and Food and the Bureau of Land Management as cooperating agencies to rehabilitate the existing Green River Diversion Dam (diversion) system that will continue to provide water delivery to water rights holders. The ROD constitutes the NRCS's final decision to implement the diversion improvements, based upon the analysis in the Final Environmental Impact Statement (Notice of Availability 79 FR 36511, June 27, 2014), which identified the “Replace In Place With Passages” option as the environmentally preferred alternative. The ROD adopted this alternative.

Signed this 17th day of April 2015, in Salt Lake City, Utah.
Amanda Ettestad,
Acting State Conservationist.

[FR Doc. 2015-10014 Filed 4-28-15; 8:45 am]

BILLING CODE 3410-16-P